DEPARTMENT OF ENERGY

Federal Energy Regulatory Commission

Combined Notice of Filings #2

Take notice that the Commission received the following electric rate filings:

Docket Numbers: ER11-1858-006.

Applicants: NorthWestern Corporation.

Description: Supplement to June 29, 2016 Triennial Market Power Analysis for the Northwest Region of NorthWestern Corporation.

Filed Date: 5/18/17.

Accession Number: 20170518-5125.

Comments Due: 5 p.m. ET 6/8/17.

Docket Numbers: ER16-2569-004.

Applicants: The Dayton Power and Light Company.

Description: Compliance filing: DP&L Settlement Compliance Filing (correction) to be effective 11/8/2016.

Filed Date: 5/18/17.

Accession Number: 20170518-5092.

Comments Due: 5 p.m. ET 6/8/17.

Docket Numbers: ER17-1099-002.

Applicants: Arizona Public Service Company.

Description: Compliance filing: Compliance Filing—Attachment H Tariff with Approved Revised Protocols to be effective 6/1/2017.

Filed Date: 5/12/17.

Accession Number: 20170512-5193.

Comments Due: 5 p.m. ET 6/2/17.

Docket Numbers: ER17-1507-001.

Applicants: Tucson Electric Power Company.

Description: Tariff Amendment: Amendment to Rate Schedule No. 321 Filing to be effective 6/28/2017.

Filed Date: 5/18/17.

Accession Number: 20170518-5080.

Comments Due: 5 p.m. ET 6/8/17.

Docket Numbers: ER17-1568-001.

Applicants: Southwest Power Pool, Inc.

Description: Compliance filing: Amended Order No. 831 Compliance Filing to be effective 4/1/2019.

Filed Date: 5/18/17.

Accession Number: 20170518-5132.

Comments Due: 5 p.m. ET 6/8/17.

Docket Numbers: ER17-1621-000.

Applicants: New York Independent System Operator, Inc.

Description: § 205(d) Rate Filing: 205 revisions to OATT 37 Coordination Agreement NYISO-ISONE to be effective 8/1/2017.

Filed Date: 5/18/17.

Accession Number: 20170518-5045.

Comments Due: 5 p.m. ET 6/8/17.

Docket Numbers: ER17-1622-000.

Applicants: J. Aron & Company LLC.

Description: § 205(d) Rate Filing: Notice of Sucession to be effective 5/18/2017.

Filed Date: 5/18/17.

Accession Number: 20170518-5046.

Comments Due: 5 p.m. ET 6/8/17.

Docket Numbers: ER17-1623-000.

Applicants: Southwestern Public Service Company.

Description: Tariff Cancellation: RS 140_142_144 NOC Filing to be effective 6/1/2017.

Filed Date: 5/18/17.

Accession Number: 20170518-5055.

Comments Due: 5 p.m. ET 6/8/17.

Docket Numbers: ER17-1624-000.

Applicants: New York Independent System Operator, Inc.

Description: Notice of cancellation of of a Small Generator Interconnection Service Agreement No. 1483 of New York Independent System Operator, Inc.

Filed Date: 5/18/17.

Accession Number: 20170518-5062.

Comments Due: 5 p.m. ET 6/8/17.

Docket Numbers: ER17-1625-000.

Applicants: ISO New England Inc., New England Power Pool Participants Committee.

Description: § 205(d) Rate Filing: Pricing Provisions for Sales of Emergency Energy to Neighboring Control Areas to be effective 8/1/2017.

Filed Date: 5/18/17.

Accession Number: 20170518-5063.

Comments Due: 5 p.m. ET 6/8/17.

Docket Numbers: ER17-1626-000.

Applicants: Castleton Commodities Merchant Trading L.P., Roseton Generating LLC.

Description: Request for Waiver of Castleton Commodities Merchant Trading L.P. and Roseton Generating LLC.

Filed Date: 5/18/17.

Accession Number: 20170518-5091.

Comments Due: 5 p.m. ET 6/8/17.

Docket Numbers: ER17-1627-000.

Applicants: California Independent System Operator Corporation.

Description: § 205(d) Rate Filing: 2017-05-18 Amendment 1 Approved Project Sponsor Agreement Sycamore Penasquitos to be effective 7/18/2017.

Filed Date: 5/18/17.

Accession Number: 20170518-5093.

Comments Due: 5 p.m. ET 6/8/17.

Docket Numbers: ER17-1628-000.

Applicants: California Independent System Operator Corporation.

Description: § 205(d) Rate Filing: 2017-05-18 Amendment 1 Approved Project Sponsor Agreement Gates-Gregg to be effective 7/18/2017.

Filed Date: 5/18/17.

Accession Number: 20170518-5103.

Comments Due: 5 p.m. ET 6/8/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 18, 2017.
Kimberly D. Bose,
Secretary.

[FR Doc. 2017-10599 Filed 5-23-17; 8:45 am]

BILLING CODE 6717-01-P